DEPARTMENT OF ENERGY

Notice of Availability of the Draft Environmental Impact Statement and Public Hearing Notice for the Texas Clean Energy Project, near Odessa, Ector County, TX

AGENCY: Department of Energy.

ACTION: Notice of Availability and Public Hearing.

SUMMARY: The U.S. Department of Energy (DOE) announces the availability of the Texas Clean Energy Project Draft Environmental Impact Statement (DOE/EIS-0444D) for public review and comment, as well as the date, location, and time for a public hearing. The draft environmental impact statement (EIS) analyzes the potential environmental impacts associated with the Texas Clean Energy Project (TCEP), which would be constructed and operated by Summit Texas Clean Energy, LLC, an affiliate of Summit Power Group, Inc. (Summit). Summit's proposal was selected by DOE to receive financial assistance under the Clean Coal Power Initiative (CCPI) program.

DOE prepared this draft EIS in accordance with the National Environmental Policy Act of 1969 (NEPA) (42 U.S.C. 4321 et seq.), the Council on Environmental Quality (CEQ) regulations that implement the procedural provisions of NEPA (40 CFR parts 1500-1508), and the DOE procedures implementing NEPA (10 CFR part 1021).

DATES: DOE invites the public to comment on the draft EIS during the public comment period, which ends May 2, 2011. DOE will consider all comments postmarked or received during the public comment period in preparing the final EIS and will consider late comments to the extent practicable.

DOE will hold a public hearing on April 5, 2011, in Odessa, Texas. An informational session will be held from 4 p.m. to 7 p.m., preceding the formal presentations and formal comment period from 7 p.m. to approximately 9 p.m. See the Public Hearing section for details on the hearing process and locations.

ADDRESSES: Requests for information about this draft EIS and requests to receive a copy of it should be directed to: Mr. Mark L. McKoy, Environmental Manager, U.S. Department of Energy, National Energy Technology Laboratory, M/S B07, P.O. Box 880, Morgantown, WV 26507-0880. Additional information about the draft EIS may also be requested by electronic mail at: mmckoy@netl.doe.gov or by telephone: (304) 285-4426, or toll-free at: (800) 432-8330, extension 4426. The draft EIS will be available at: http://nepa.energy.gov/. Copies of the draft EIS are also available for review at the locations listed in the SUPPLEMENTARY INFORMATION section of this Notice.

Written comments on the draft EIS can be mailed to Mr. Mark L. McKoy, Environmental Manager, at the address noted above. Written comments may also be submitted by fax to: (304) 285-4403, or submitted electronically to: mmckoy@netl.doe.gov. Oral comments on the draft EIS will be accepted verbatim only during the public hearing scheduled for the date and location provided in the DATES section of this Notice.

FOR FURTHER INFORMATION CONTACT: For further information on the proposed project or the draft EIS, please contact Mr. Mark L. McKoy (see ADDRESSES). For general information regarding the DOE NEPA process, please contact: Ms. Carol M. Borgstrom, Director, Office of NEPA Policy and Compliance (GC-54), U.S. Department of Energy, 1000 Independence Avenue, SW., Washington, DC 20585-0103; telephone: (202) 586-4600; fax: (202) 586-7031; or leave a message at: (800) 472-2756.

SUPPLEMENTARY INFORMATION: DOE proposes to provide limited financial assistance (approximately $450 million), through a cooperative agreement, to Summit for the proposed TCEP. The project proponent team includes: Summit; Blue Source, LLC; Siemens, AG; Linde AG (operating through Selas Fluid Processing, Corp.); Fluor Corporation; and CW NextGen, Inc.

The TCEP would use coal-fueled integrated gasification combined-cycle technology to generate electric power and would capture carbon dioxide (CO2) for use in enhanced oil recovery (EOR) and eventual sequestration. The plant would generate 400 megawatts (gross) of electricity, of which approximately 213 megawatts would be provided to the power grid. It would also produce urea, argon, and sulfuric acid for sale in commercial markets. Because of its multiple production capabilities, the plant is referred to as a poly-generation (or polygen) plant. DOE would provide approximately 26 percent of the $1.73 billion (rounded-2009 dollars) in development and capital costs recognized under the DOE cooperative agreement.

The polygen plant would be built on a 600 acre oil field site in Ector County, Texas, north of the abandoned oil town of Penwell. Summit would design and construct the plant to capture approximately 90 percent of its CO2. During the demonstration phase of the plant's operations, the project would sequester about 3 million tons of CO2 per year by transporting it in pipelines to existing oil fields in the Permian Basin of West Texas for use in EOR operations by third-party buyers of the CO2. Following the demonstration phase, the polygen plant would continue in commercial operation for 30 to 50 years and would continue to capture its CO2.

The draft EIS evaluates the potential impacts of the proposed project, connected actions, and reasonable alternatives. Because the proposed project may affect wetlands, the draft EIS includes an assessment of impacts to wetlands in accordance with DOE regulations for Compliance with Floodplains and Wetlands Environmental Review Requirements (10 CFR part 1022).

DOE analyzed two alternatives in the draft EIS, the Proposed Action and the No Action Alternative. Under the Proposed Action, DOE would provide approximately $450 million in cost-shared funding under the CCPI program to the proposed project. DOE has already provided a portion of the total funding ($23.2 million) to Summit for DOE's share of the preliminary design and project definition.

Under the No Action Alternative, DOE would not provide continued funding under the CCPI Program. In the absence of DOE funding, Summit could pursue two options. First, the facility and supporting infrastructure could be built as proposed without DOE funding. The potential environmental impacts of this option would be essentially the same as the Proposed Action. Second, Summit could choose to cancel the project, and none of the proposed facilities would be built. This option would not contribute to the goal of the CCPI program, which is to accelerate commercial deployment of advanced coal technologies with carbon capture and sequestration that provide the United States with clean, reliable, and affordable energy. For purposes of this draft EIS, DOE assumes that the project would not be built under the No Action Alternative.

DOE has developed an overall strategy for compliance with NEPA for the CCPI program consistent with CEQ regulations (40 CFR parts 1500-1508) and DOE regulations (10 CFR part 1021). This strategy has two phases. The first phase involves an open solicitation and competitive selection process to obtain a set of projects that best meets program needs. The applications that meet the mandatory eligibility requirements constitute the range of reasonable alternatives available to DOE to meet the program's purpose and needs. Following reviews by technical, environmental, and financial panels and a comprehensive assessment by a merit review board, DOE officials select those projects that they conclude best meets the program's purposes and needs. By broadly soliciting proposals to meet the programmatic purposes and needs for DOE action and by evaluating the potential environmental impacts associated with each proposal before selecting projects that would go forward to the second phase, DOE considers a reasonable range of alternatives for implementing CCPI. The second phase consists of preparing detailed NEPA analyses for each selected project. For the TCEP, DOE determined that providing financial assistance to the proposed project would constitute a major federal action that may significantly affect the quality of the human environment. Therefore, DOE has prepared this draft EIS to assess the potential environmental impacts of Summit's proposed project and the options that are still under consideration by Summit.

Alternative sites considered by Summit in developing the proposed project are presented in the EIS. Alternative sources of water supply and reasonable alternative routes for linear facilities are addressed as options in the draft EIS.

The draft EIS considers the environmental consequences that may result from the proposed project and describes additional mitigation that might be used to reduce various impacts. Potential impacts identified during the scoping process and analyzed in the draft EIS relate to the following:

Air quality; soils, geology, and mineral resources; ground water; surface water; biological resources; aesthetics; cultural resources; land use; socioeconomics; environmental justice; community services; utility systems; transportation; materials and waste management; human health, safety, and accidents; and noise and vibration.

Availability of the Draft EIS

Copies of the draft EIS have been distributed to Members of Congress; Native American tribal governments; Federal, State, and local officials; and agencies, organizations, and individuals who may be interested or affected. The draft EIS will be available on the Internet at: http://nepa.energy.gov/. Copies of the draft EIS are available for public review at the following location: University of Texas of the Permian Basin, J. Conrad Dunagan Library, Main Floor, 4901 E. University Avenue, Odessa, TX 79762-0001. Additional copies also can be requested (see ADDRESSES).

Public Hearing

DOE will conduct a public hearing on April 5, 2011 at the MCM Elegante Hotel, 5200 E. University Boulevard, Odessa, TX 79762 to obtain comments on the draft EIS. Requests to speak at the public hearing can be made by calling or writing to Mr. Mark L. McKoy (see ADDRESSES). Requests to speak that have not been submitted prior to the hearing will be accepted in the order in which they are received during the hearing. Speakers are encouraged to provide a written version of their oral comments or supplementary materials for the record. Each speaker will be allowed approximately five minutes to present comments. Those speakers who want more than five minutes should indicate the length of time desired in their request. Depending on the number of speakers, DOE may need to limit all speakers to five minutes initially and provide additional opportunities as time permits. Comments will be recorded by a court reporter and will become part of the public record. Oral and written comments will be given equal consideration.

The hearing will begin at 4 p.m. with an informational session. Formal presentations and a formal comment session will begin at approximately 7 p.m. DOE will begin the hearing's formal session with overviews of the DOE program, proposed project, and NEPA process, followed by oral statements by the pre-registered speakers. Speakers may be asked questions to help ensure that DOE fully understands the comments. A presiding officer will establish the order of speakers and provide any additional procedures necessary to conduct the meetings.

All meetings will be accessible to people with disabilities. In addition, any individual needing specific assistance, such as a sign language interpreter or a translator, should contact Mr. Mark L. McKoy (See ADDRESSES) at least 48 hours in advance of the hearing so that arrangements can be made.

Issued in Washington, DC, on March 17, 2011.
Mark J. Matarrese,
Director, Office of Environment, Security, Safety & Health, Office of Fossil Energy.

[FR Doc. 2011-6694 Filed 3-21-11; 8:45 am]

BILLING CODE 6450-01-P